DEPARTMENT OF ENERGY

Federal Energy Regulatory Commission

Combined Notice of Filings

Take notice that the Commission has received the following Natural Gas Pipeline Rate and Refund Report filings:

Docket Numbers: RP14-842-000.

Applicants: PGPipeline LLC.

Description: Docket No. RP14-442-000 Compliance Filing to be effective 7/1/2014.

Filed Date: 5/7/14.

Accession Number: 20140507-5051.

Comments Due: 5 p.m. ET 5/19/14.

Docket Numbers: RP14-843-000.

Applicants: Alliance Pipeline L.P.

Description: May 9-14, 2014 Auction to be effective 5/9/2014.

Filed Date: 5/7/14.

Accession Number: 20140507-5131.

Comments Due: 5 p.m. ET 5/19/14.

Docket Numbers: RP14-844-000.

Applicants: Dauphin Island Gathering Partners.

Description: Negotiated Rates 5-6-14 to be effective 5/8/2014.

Filed Date: 5/7/14.

Accession Number: 20140507-5174.

Comments Due: 5 p.m. ET 5/19/14.

Docket Numbers: RP14-845-000.

Applicants: J.P. Morgan Ventures Energy Corporation, Mercuria Energy America, Inc.

Description: Joint Petition for Temporary Waiver of J.P. Morgan Ventures Energy Corporation and Mercuria Energy America, Inc.

Filed Date: 5/7/14.

Accession Number: 20140507-5205.

Comments Due: 5 p.m. ET 5/19/14.

Docket Numbers: RP14-846-000.

Applicants: Dominion Transmission, Inc.

Description: DTI—Abandonment of Rate Schedule X-32 to be effective 6/9/2014.

Filed Date: 5/8/14.

Accession Number: 20140508-5091.

Comments Due: 5 p.m. ET 5/20/14.

Docket Numbers: RP14-847-000.

Applicants: Rockies Express Pipeline LLC.

Description: Neg Rate 2014-05-09 Encana NC NRA to be effective 5/10/2014.

Filed Date: 5/9/14.

Accession Number: 20140509-5047.

Comments Due: 5 p.m. ET 5/21/14.

Docket Numbers: RP14-848-000.

Applicants: Rager Mountain Storage Company LLC.

Description: Tariff Modifications to be effective 6/8/2014.

Filed Date: 5/9/14.

Accession Number: 20140509-5051.

Comments Due: 5 p.m. ET 5/21/14.

Docket Numbers: RP14-849-000.

Applicants: National Fuel Gas Supply Corporation.

Description: Cancellation of Rate Schedule X-38 to be effective 6/9/2014.

Filed Date: 5/9/14.

Accession Number: 20140509-5109.

Comments Due: 5 p.m. ET 5/21/14.

Docket Numbers: RP14-850-000.

Applicants: Transcontinental Gas Pipe Line Company,

Description: Transco's GSS LSS Customers Share of DTI GSS Fuel Refund to be effective N/A.

Filed Date: 5/9/14.

Accession Number: 20140509-5135.

Comments Due: 5 p.m. ET 5/21/14.

Docket Numbers: RP14-851-000.

Applicants: ANR Pipeline Company.

Description: ANR Pipeline Company submits tariff filing per 154.203: Compliance to Show Cause Order RP14-442-000 to be effective N/A.

Filed Date: 5/12/14.

Accession Number: 20140512-5037.

Comments Due: 5 p.m. ET 5/27/14.

Docket Numbers: RP14-852-000.

Applicants: ANR Storage Company.

Description: ANR Storage Company submits tariff filing per 154.203: Compliance to Show Cause Order RP14-442-000 to be effective 6/12/2014.

Filed Date: 5/12/14.

Accession Number: 20140512-5039.

Comments Due: 5 p.m. ET 5/27/14.

Docket Numbers: RP14-853-000.

Applicants: Bison Pipeline LLC.

Description: Bison Pipeline LLC submits tariff filing per 154.203: Compliance to Show Cause Order RP14-442-000 to be effective N/A.

Filed Date: 5/12/14.

Accession Number: 20140512-5042.

Comments Due: 5 p.m. ET 5/27/14.

Docket Numbers: RP14-854-000.

Applicants: Great Lakes Gas Transmission Limited Par.

Description: Great Lakes Gas Transmission Limited Partnership submits tariff filing per 154.203: Compliance to Show Cause Order RP14-442-000 to be effective 6/12/2014.

Filed Date: 5/12/14.

Accession Number: 20140512-5043.

Comments Due: 5 p.m. ET 5/27/14.

Docket Numbers: RP14-855-000.

Applicants: Blue Lake Gas Storage Company.

Description: Blue Lake Gas Storage Company submits tariff filing per 154.203: Compliance to Show Cause Order RP14-442-000 to be effective 6/12/2014.

Filed Date: 5/12/14.

Accession Number: 20140512-5044.

Comments Due: 5 p.m. ET 5/27/14.

Docket Numbers: RP14-856-000.

Applicants: Gas Transmission Northwest LLC.

Description: Gas Transmission Northwest LLC submits tariff filing per 154.203: Compliance to Show Cause Order RP14-442-000 to be effective 6/12/2014.

Filed Date: 5/12/14.

Accession Number: 20140512-5046.

Comments Due: 5 p.m. ET 5/27/14.

Docket Numbers: RP14-857-000.

Applicants: North Baja Pipeline, LLC.

Description: North Baja Pipeline, LLC submits tariff filing per 154.203: Compliance to Show Cause Order RP14-442-000 to be effective 6/12/2014.

Filed Date: 5/12/14.

Accession Number: 20140512-5047.

Comments Due: 5 p.m. ET 5/27/14.

Docket Numbers: RP14-858-000.

Applicants: Northern Border Pipeline Company.

Description: Northern Border Pipeline Company submits tariff filing per 154.203: Compliance to Show Cause Order RP14-442-000 to be effective N/A.

Filed Date: 5/12/14.

Accession Number: 20140512-5048.

Comments Due: 5 p.m. ET 5/27/14.

Docket Numbers: RP14-859-000.

Applicants: Portland Natural Gas Transmission System.

Description: Portland Natural Gas Transmission System submits tariff filing per 154.203: Compliance to Show Cause Order RP14-442-000 to be effective N/A.

Filed Date: 5/12/14.

Accession Number: 20140512-5050.

Comments Due: 5 p.m. ET 5/27/14.

Docket Numbers: RP14-860-000.

Applicants: TC Offshore LLC.

Description: TC Offshore LLC submits tariff filing per 154.203: Compliance to Show Cause Order RP14-442-000 to be effective N/A.

Filed Date: 5/12/14.

Accession Number: 20140512-5051.

Comments Due: 5 p.m. ET 5/27/14.

Docket Numbers: RP14-861-000.

Applicants: Tuscarora Gas Transmission Company

Description: Tuscarora Gas Transmission Company submits tariff filing per 154.203: Compliance to Show Cause Order RP14-442-000 to be effective 6/12/2014.

Filed Date: 5/12/14.

Accession Number: 20140512-5052.

Comments Due: 5 p.m. ET 5/27/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP14-685-001.

Applicants: Equitrans, L.P.

Description: Interruptible Wheeling Service—Compliance Filing to be effective 6/6/2014.

Filed Date: 5/7/14.

Accession Number: 20140507-5066.

Comments Due: 5 p.m. ET 5/19/14.

Docket Numbers: RP14-780-001.

Applicants: Texas Eastern Transmission, LP.

Description: TETLP 2014 Tariff Maps Filing Amendment to be effective 5/29/2014.

Filed Date: 5/7/14.

Accession Number: 20140507-5031.

Comments Due: 5 p.m. ET 5/19/14.

Docket Numbers: RP14-118-003.

Applicants: WBI Energy Transmission, Inc.

Description: Interim Rates to be effective 5/1/2014 to be effective 5/1/2014.

Filed Date: 5/8/14.

Accession Number: 20140508-5073.

Comments Due: 5 p.m. ET 5/20/14.

Docket Numbers: RP14-573-003.

Applicants: KPC Pipeline, LLC.

Description: KPC Fuel Reimbursement Adjustment—Supplemental Compliance Filing to be effective 4/1/2014.

Filed Date: 5/8/14.

Accession Number: 20140508-5119.

Comments Due: 5 p.m. ET 5/20/14.

Docket Numbers: RP14-767-001.

Applicants: Questar Pipeline Company.

Description: Non-conforming TSAs, Amended filing—Enervest 5113, 5114, 5115 to be effective 2/1/2014.

Filed Date: 5/8/14.

Accession Number: 20140508-5074.

Comments Due: 5 p.m. ET 5/20/14.

Docket Numbers: RP14-823-001.

Applicants: Gulf South Pipeline Company, LP.

Description: Additional Non-Conf Agmts in RP14-823-000 to be effective 1/1/2015.

Filed Date: 5/8/14.

Accession Number: 20140508-5109.

Comments Due: 5 p.m. ET 5/20/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: Monday, May 12, 2014.
Nathaniel J. Davis, Sr.,
Deputy Secretary.

[FR Doc. 2014-11475 Filed 5-16-14; 8:45 am]

BILLING CODE 6717-01-P